NUCLEAR REGULATORY COMMISSION

[Docket No. 030-08681]

Notice of Finding of No Significant Impact and Availability of Environmental Assessment for Amendment of Materials License No. 29-00055-14, Teledyne Brown Engineering, Inc., Westwood, NJ

I. Introduction

The U.S. Nuclear Regulatory Commission (NRC) is considering the issuance of a license amendment to Teledyne Brown Engineering, Inc. for Materials License No. 29-00055-14, to authorize release of its facility in Westwood, New Jersey for unrestricted use and has prepared an Environmental Assessment (EA) in support of this action in accordance with the requirements of 10 CFR part 51. Based on the EA, the NRC has concluded that a Finding of No Significant Impact (FONSI) is appropriate.

II. EA Summary

The purpose of the proposed action is to allow for the release of the licensee's 103 Woodland Avenue, Westwood, New Jersey facility for unrestricted use. Teledyne has been authorized by NRC from 1968 to present to store and re-package low-level radioactive wastes at the site. In 2002, Teledyne ceased operations with licensed materials at the 103 Woodland Avenue, Westwood, New Jersey site, and requested that NRC release the facility for unrestricted use and terminate the license. Teledyne has conducted surveys of the facility and determined that the facility meets the license termination criteria in subpart E of 10 CFR part 20.

III. Finding of No Significant Impact

The NRC staff has evaluated Teledyne's request and the results of the surveys and has concluded that the completed action complies with 10 CFR part 20. The staff has prepared the EA (summarized above) in support of the proposed license amendment to terminate the license and release the facility for unrestricted use. On the basis of the EA, the NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession Nos. ML031610071 and ML030520338 (package)). These documents are also available for inspection and copying for a fee at the Region I Office, 475 Allendale Road, King of Prussia, PA 19406. Any questions with respect to this action should be referred to Betsy Ullrich, Nuclear Materials Safety Branch 2, Division of Nuclear Materials Safety, Region I, 475 Allendale Road, King of Prussia, Pennsylvania, 19406, telephone (610) 337-5040, fax (610) 337-5269.

Dated at King of Prussia, Pennsylvania this 10th day of June, 2003.
For the Nuclear Regulatory Commission:
John D. Kinneman,
Chief, Nuclear Materials Safety Branch 2, Division of Nuclear Materials Safety, Region I.

[FR Doc. 03-15249 Filed 6-16-03; 8:45 am]

BILLING CODE 7590-01-P